DEPARTMENT OF JUSTICE

Notice of Lodging of Proposed Consent Decree Amendment

In accordance with Departmental Policy, 28 CFR 50.7, notice is hereby given that a proposed First Amendment to RD/RA Consent Decree in United States of America et al. v. FMC Corporation and J.R. Simplot Company, Civil Action No. 99-296-E-BLW (D. Idaho), was lodged with the United States District Court for the District of Idaho on August 31, 2010. The proposed First Amendment to the RA/RA Consent Decree amends the consent decree entered on May 9, 2002, by requiring defendant J.R. Simplot Company (“Simplot”) to implement EPA's January 20, 2010 Interim Record of Decision Amendment for the Simplot Operable Unit of the Eastern Michaud Flat Superfund Site.

Under the proposed First Amendment to RD/RA Consent Decree, Simplot will implement EPA's January 20, 2010 Interim Record of Decision Amendment according to a Scope of Work which is attached to the First Amendment to RD/RA Consent Decree. Work to be performed by Simplot under the proposed First Amendment to RD/RA Consent Decree includes: An assessment of ongoing and past releases of contaminants of concern (including phosphorus) at or near Simplot's phosphoric acid plant; the development and implementation of a verifiable plan to control the sources of phosphorus and other contaminants of concern within the Simplot operable unit; the installation of a synthetic liner on the receiving surface of the gypsum stack to reduce water from infiltrating through the stack into groundwater; and the continued development, operation, maintenance, and augmentation, to the extent necessary, of the groundwater extraction system to keep contaminant of concern levels at or below cleanup standards. The installation of the liner will be performed in three phases over a 5 year period. The installation of the enhanced groundwater extraction and monitoring system will be completed in a similar time frame. The estimated cost for implementing the selected amended remedy is approximately $50 million. The proposed First Amendment to RD/RA Consent Decree includes a covenant not to sue by the United States for the work under Sections 106 and 107 of the Comprehensive Environmental Response, Compensation and Liability Act, 42 U.S.C. 9601 et seq. (“CERCLA”), and under Section 7003 of the Resource Conservation and Recovery Act (“RCRA”), 42 U.S.C. 6973.

The Department of Justice will receive written comments relating to the proposed Consent Decree Amendment for a period of thirty (30) days from the date of publication of this notice. Comments should be addressed to the Assistant Attorney General, Environment and Natural Resources Division, and either e-mailed to pubcomment-ees.enrd@usdoj.gov or mailed to P.O. Box 7611, U.S. Department of Justice, Washington, DC 20044-7611, and should refer to United States of America et al. v. FMC Corporation and J.R. Simplot Company, DJ Reference No. 90-11-3-10054. Commenters may request an opportunity for a public meeting in the affected area, in accordance with Section 7003(d) of RCRA, 42 U.S.C. 6973(d).

The Consent Decree Amendment may be examined at the Office of the United States Attorney, District of Idaho, Washington Group Plaza IV, 800 Park Blvd., Suite 600, Boise, ID 83712. During the public comment period, the Consent Decree Amendment may also be examined on the following Department of Justice Web site: http://www.usdoj.gov/enrd/Consent_Decrees.html. A copy of the Consent Decree Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $24 (25 cents per page reproduction cost) payable to the United States Treasury or, if requesting by e-mail or fax, forward a check in that amount to the Consent Decree Library at the stated address.

Maureen Katz,
Assistant Section Chief, Environmental Enforcement Section, Environment and Natural Resources Division, United States Department of Justice.

[FR Doc. 2010-22267 Filed 9-7-10; 8:45 am]

BILLING CODE 4410-15-P